DEPARTMENT OF HOUSING AND URBAN DEVELOPMENT

[Docket No. FR-5415-FA-27]

Announcement of Funding Awards; Fair Housing Initiatives Program; Fiscal Year 2010

AGENCY: Office of the Assistant Secretary for Fair Housing and Equal Opportunity, the Department of Housing and Urban Development, HUD.

ACTION: Announcement of funding awards.

SUMMARY: In accordance with section 102(a)(4)(C) of the Department of Housing and Urban Development Reform Act of 1989, this announcement notifies the public of funding decisions made by the Department for funding under the Notice of Funding Availability (NOFA) for the Fair Housing Initiatives Program (FHIP) for Fiscal Year (FY) 2010. This announcement contains the names and addresses of those award recipients selected for funding based on the rating and ranking of all applications and the amount of the awards.

FOR FURTHER INFORMATION CONTACT: Myron Newry, Director, FHIP Division, Office of Programs, Office of Fair Housing and Equal Opportunity, Department of Housing and Urban Development, 451 Seventh Street, SW., Room 5230,Washington, DC 20410. Telephone number (202) 402-7095 (this is not a toll-free number). Persons with hearing or speech impairments may access this number through TTY by calling the toll-free Federal Relay Service at 800-877-8339.

SUPPLEMENTARY INFORMATION: Title VIII of the Civil Rights Act of 1968, as amended, 42 U.S.C. 3601-19 (the Fair Housing Act) provides the Secretary of Housing and Urban Development with responsibility to accept and investigate complaints alleging discrimination based on race, color, religion, sex, handicap, familial status or national origin in the sale, rental, or financing of most housing. In addition, the Fair Housing Act directs the Secretary to coordinate with State and local agencies administering fair housing laws and to cooperate with and render technical assistance to public or private entities carrying out programs to prevent and eliminate discriminatory housing practices.

Section 561 of the Housing and Community Development Act of 1987, 42 U.S.C. 3616, established FHIP to strengthen the Department's enforcement of the Fair Housing Act and to further fair housing. This program assists projects and activities designed to enhance compliance with the Fair Housing Act and substantially equivalent State and local fair housing laws. Implementing regulations are found at 24 CFR part 125.

The Department published its Fair Housing Initiatives Program (FHIP) NOFA on December 1, 2010 announcing the availability of approximately $40,755,000 out of the Department's FY 2010 appropriation, to be utilized for FHIP projects and activities. Funding availability for discretionary grants included: the Private Enforcement Initiative (PEI) ($26,000,000), the Education and Outreach Initiative (EOI) ($6,755,000), and the Fair Housing Organizations Initiative (FHOI) ($8,000,000).

This Notice announces grant awards of approximately $40,755,000, and funding for Fair Housing Accessibility First (FIRST) training. FIRST is a major training initiative to assist architects, builders, disability advocates and others with understanding how to design and construct multifamily housing that complies with the Act.

For the FY 2010 NOFA, the Department reviewed, evaluated and scored the applications received based on the criteria in the FY 2009 NOFA. As a result, HUD has funded the applications announced in Appendix A, and in accordance with section 102(a)(4)(C) of the Department of Housing and Urban Development Reform Act of 1989 (103 Stat. 1987, 42 U.S.C. 3545), the Department is hereby publishing details concerning the recipients of funding awards in Appendix A of this document.

The Catalog of Federal Domestic Assistance Number for currently funded Initiatives under the Fair Housing Initiatives Program is 14.408.

Dated: September 13, 2011.
John D. Trasviña,
Assistant Secretary for Fair Housing and Equal Opportunity.

Applicant name | Contact | Region | Award amt.
Education and Outreach/General Component
HAP, Inc.: 322 Main Street, Springfield, MA 01101-2403 | Carol Walker, 413-233-1668 | 1 | $121,637.00
Champlain Valley Office of Economic Opportunity: 191 North Street, Burlington, VT 05401-1630 | Kevin Stapleton, 802-864-3334 | 1 | 125,000.00
Neighborhood Econ. Development Advocacy Project: 176 Grand Street, Suite 300, New York, NY 10013-3786 | Sarah Ludwig, 212-680-5100 | 2 | 22,376.00
Southwestern Pennsylvania Legal Services, Inc.: 10 West Cherry Ave., Washington, PA 15301-6808 | Robert Brenner, 724-225-6170 | 3 | 125,000.00
Equal Rights Center: 11 Dupont Circle, NW., Suite 450, Washington, DC 20036-1207 | Leah Maddox, 202-370-3227 | 3 | 55,458.00
Housing Opportunities Project for Excellence, Inc.: 18441 NW. 2nd Avenue, Suite 218, Miami Gardens, FL 33169 | Keenya Robertson, 305-651-4673 | 4 | 125,000.00
Prairie State Legal Services, Inc.: 303 North Main Street, Rockford, IL 61101-1049 | Jennifer Gelman, 815-762-0858 | 5 | 125,000.00
Housing Research & Advocacy Center: 3631 Perkins Ave., Suite 3A-2, Cleveland, OH 44114-4705 | Jeffrey Dillman, 216-361-9240 | 5 | 125,000.00
Greater New Orleans Fair Housing Action Center, Inc.: 404 South Jefferson Davis Parkway, New Orleans, LA 70119-7126 | James Perry, 504-596-2100 | 6 | 125,000.00
High Plains Community Development Corp., Inc.: 130 East 2nd Street, Chadron, NE 69337-2329 | Marguerite Vey-Miller, 308-432-4346 | 7 | 120,570.00
Missouri Commission on Human Rights: 3315 W. Truman Blvd., Jefferson City, MO 65102-1129 | Alisa Warren, 573-522-1019 | 7 | 124,917.00
City of Billings: 510 N. Broadway, Billings, MT 59101-1156 | Brenda Beckett, 406-657-8286 | 8 | 125,000.00
Mental Health Advocacy Services, Inc.: 3255 Wilshire Blvd., Suite 902, Los Angeles, CA 90010-1413 | James Preis, 213-389-2077 | 9 | 115,500.00
Education and Outreach Initiative/Higher Education Component
John Marshall Law School: 315 S. Plymouth Court, Chicago, IL 60604 | Michael Seng, 312-987-2397 | 5 | 99,980.00
Education and Outreach Initiative/Lending Component
Connecticut Fair Housing Center, Inc.: 221 Main Street, Hartfort, CT 06106 | Erin Kemple, 860-247-4400 | 1 | 125,000.00
AAFE Community Development Fund, Inc.: 111 Division Street, New York, NY 10002 | Hally Chu, 212-964-2288 | 2 | 100,000.00
Neighborhood Economic Development Advocacy Project: 176 Grand Street, Suite 300, New York, NY 10013 | Sarah Ludwig, 212-680-5100 | 2 | 125,000.00
St. Martin Center, Inc.: 1701 Parade Street, Erie, PA 16503 | David Pesch, 814-452-6113 | 3 | 125,000.00
Housing Counseling Services: 2410 17th Street, NW., Adam's Alley, Washington, DC 20009 | Marian Siegel, 202-667-7006 | 3 | 125,000.00
Mobile Fair Housing Center, Inc.: P.O. Box 161202, Mobile, AL 36616 | Teresa Bettis, 251-479-1532 | 4 | 118,734.00
Legal Aid Society of Palm Beach County, Inc.: 423 Fern Street, Suite 200, West Palm Beach, FL 33401 | Robert Bertisch, 561-655-8944 | 4 | 125,000.00
Affordable Housing Centers of America: 1439 W. Flagler Street, Miami, FL 33135 | Bruce Dorpalen, 215-765-0048 | 4 | 79,819.00
Charleston Trident Urban League, Inc.: 729 East Bay Street, Charleston, SC 29403 | Otha Meadows, 843-965-4037 | 4 | 125,000.00
Mid-Florida Housing Partnership, Inc.: 1834 Mason Ave., Daytona Beach, FL 32117 | Francine Gordon, 386-274-4441 | 4 | 125,000.00
Jacksonville Area Legal Aid, Inc.: 126 West Adams Street, Jacksonville, FL 32202 | Michael Figgins, 904-356-8371 | 4 | 124,743.00
Metropolitan Milwaukee Fair Housing Council, Inc.: 600 East Mason Street, Milwaukee, WI 53202 | William Tisdale, 414-278-1240 | 5 | 124,773.00
Fair Housing Opportunities Inc. dba Fair Housing Center: 432 N. Superior, Toledo, OH 43604 | Michael Marsh, 419-243-6163 | 5 | 125,000.00
Fair Housing Resource Center, Inc.: 70 West Erie Street, Suite 260, Painesville, OH 44077 | Patricia Kidd, 440-392-0147 | 5 | 125,000.00
Miami Valley Fair Housing Center, Inc.: 21 East Babbitt Street, Dayton, OH 45405 | Jim McCarthy, 937-223-6035 | 5 | 125,000.00
Housing Opportunities Made equal of Greater Cincinnati, Inc.: 2400 Reading Road, Suite 118, Cincinnati, OH 45202 | Elizabeth Brown, 513-721-4663 | 5 | 124,025.00
Minneapolis Urban League: 2100 Plymouth Avenue North, Minneapolis, MN 55411 | Shawne Monahan, 612-302-3103 | 5 | 124,447.00
John Marshall Law School: 315 S. Plymouth Court, Chicago, IL 60604 | Michael Seng, 312-987-2397 | 5 | 124,994.00
Southwest Fair Housing Council: 2030 E Broadway, Suite 101, Tucson, AZ 85719 | Richard Rhey, 520-798-1568 | 9 | 124,786.00
Idaho Legal Aid Services, Inc.: 310 N. 5th Street, Boise, ID 83702 | James Cook, 208-336-8980 | 10 | 103,699.00
Education and Outreach/National Media Campaign Component
National Fair Housing Alliance: 1101 Vermont Avenue, NW., Suite 710, Washington, DC 20005 | Catherine Cloud, 202-898-1661 | 11 | 999,976.00
San Francisco Consumer Action: 221 Main Street, San Francisco, CA 94105 | Ken McEldowney, 415-777-9648 | 11 | 999,990.00
Education and Outreach/National Lending Training Component
National Fair Housing Alliance: 1101 Vermont Avenue, NW., Washington, DC 20005 | Catherine Cloud, 202-898-1661 | 11 | 767,293.00
National Community Reinvestment Coalition: 727 15th Street, NW., Suite 900, Washington, DC 20005 | David Berenbaum, 202-464-2731 | 11 | 232,707.00
Fair Housing Organizations Initiative—Continuing Development Component General
Urban League of Kansas Inc.: 2418 E. 9th Street North, Wichita, KS 67214 | Kevin Andrews, 316-262-2463 | 7 | 273,007.00
Inland Mediation Board: The City Center Building, 10681 Foothill Blvd., Rancho Caucamor, CA 91730 | Lynne Anderson, 909-984-2254 | 9 | 726,993.00
Fair Housing Organizations Initiative/Establishing New Organizations Component
West Tennessee Legal Services, Inc.: 210 W. Main Street, Jackson, TN 38301 | Carol Gish, 731-426-1309 | 4 | 957,165.54
National Fair Housing Alliance: 1101 Vermont Avenue, NW., Washington, DC 20005 | Catherine Cloud, 202-898-1661 | 5 | 994,211.00
Greater Bakersfield Legal Assistance, Inc. (GBLA): 615 California Avenue, Bakersfield, CA 93304 | Estela Casas, 661-334-4660 | 9 | 441,743.00
Fair Housing Organizations Initiative/Mortgage Rescue Scam Component
Queens Legal Services Corporation: 89-00 Sutphin Boulevard, Suite 206, Jamaica, NY 11435 | Jennifer Ching, 347-592-2242 | 2 | 498,753.00
South Brooklyn Legal Services, Inc.: 105 Court Street, Brooklyn, NY 11201 | Meghan Faux, 718-246-3276 | 2 | 427,587.00
National Community Reinvestment Coalition: 727 15th Street, NW., Suite 900, Washington, DC 20005 | David Berenbaum, 202-628-8866 | 3 | 486,601.00
Lawyers' Committee for Civil Rights Under Law: 1401 New York Avenue, NW., Washington, DC 20005 | Kathleen McEnerny, 202-662-8314 | 3 | 499,992.00
Fair Housing Partnership of Greater Pittsburgh: 2840 Liberty Avenue, Suite 205, Pittsburgh, PA 15222 | Peter Harvey, 412-391-2535 | 3 | 98,563.00
Advocates for Basic Legal Equality, Inc.: 525 Jefferson Avenue, Suite 300, Toledo, OH 43604 | Cindy Hurst, 419-255-0814 | 5 | 499,999.00
Housing and Economic Rights Advocates: 1814 Franklin Street, Suite 1040, Oakland, CA 94612 | Maeve Brown, 510-271-8443 | 9 | 145,210.00
Private Enforcement Initiative/General Component
New Hampshire Legal Assistance: 117 North State Street, Concord, New Hampshire 03301 | Christine Lavallee, 603-206-2221 | 1 | 324,972.00
Vermont Legal Aid, Inc.: 264 North Winooski Avenue, Burlington, Vermont 05402 | Rachel Batterson, 802-863-5620 | 1 | 325,000.00
Connecticut Fair Housing Center, Inc.: 221 Main Street, Hartford, CT 06106 | Erin Kemple, 860-247-4400 | 1 | 325,000.00
Westchester Residential Opportunities, Inc.: 470 Mamaroneck Avenue, Suite 410, White Plains, NY 10605 | Geoffrey Anderson, 914-428-4507 | 2 | 251,156.00
Fair Housing Justice Center, Inc.: 5 Hanover Square, 17th Floor, New York, NY 10004 | Susan Kurien, 212-400-8232 | 2 | 324,991.00
Fair Housing Council of Central New York, Inc.: 327 W. Fayette St., Suite 408, Syracuse, NY 13202 | Merrilee Witherell, 315-471-0420 | 2 | 323,870.00
National Community Reinvestment Coalition: 727 15th Street, NW., Suite 900, Washington, DC 20005 | David Berenbaum, 202-628-8866 | 3 | 315,256.00
Community Legal Aid Society, Inc.: 100 West 10th Street, Suite 801, Wilmington, DE 19801 | William Dunne, 302-575-0660 | 3 | 297,657.00
Southwestern Pennsylvania Legal Services, Inc.: 10 West Cherry Ave., Washington, PA 15301 | Robert Brenner, 724-225-6170 | 3 | 325,000.00
Fair Housing Continuum, Inc.: 4760 N. U.S. Hwy. 1, Suite 203, Melbourne, FL 32935 | David Baade, 321-757-3532 | 4 | 315,000.00
Bay Area Legal Services, Inc.: 829 W. Dr. MLK, Jr., Blvd., Suite 200, Tampa, FL 33603 | Russell Harrison, 813-232-1222 | 4 | 278,914.00
Fair Housing Center of the Greater Palm Beaches, Inc.: 1300 W. Lantana Road, Suite 200, Lantana, FL 33462 | Vince Larkins, 561-533-8717 | 4 | 311,694.00
Community Legal Services of Mid-Florida, Inc.: 128 Orange Avenue, Daytona Beach, FL 32114 | Suzanne Edmunds, 386-255-6573 | 4 | 325,000.00
Fair Housing Center of the Gulf Coast Region of Mississippi: P.O. Box 1592, Gulfport, MS 39502 | Charmel Gaulden, 228-396-4008 | 4 | 325,000.00
Legal Services of Eastern Michigan: 436 S. Saginaw Street, Suite 101, Flint, MI 48502 | Teresa Trantham, 810-234-2621 | 5 | 259,384.00
Greater New Orleans Fair Housing Action Center, Inc.: 404 South Jefferson Davis Parkway, New Orleans, LA 70119 | James Perry, 504-596-2100 | 6 | 325,000.00
Montana Fair Housing, Inc.: 519 East Front Street, Butte, MT 59701 | Pamela Bean, 406-782-2573 | 8 | 176,652.00
Arizona Fair Housing Center: 615 N. 5th Avenue, Phoenix, AZ 85003 | Edward Valenzuela, 602-548-1599 | 9 | 325,000.00
Fair Housing Council of Central California: 333 W. Shaw Avenue, Suite 14, Fresno, CA 93704 | Marilyn Borelli, 559-244-2950 | 9 | 293,580.00
Orange County Fair Housing Council, Inc.: 201 S. Broadway, Santa Ana, CA 92701 | David Levy, 714-569-0823 | 9 | 304,000.00
Southern California Housing Rights Center: 520 S. Virgil Avenue, Suite 400, Los Angeles, CA 90020 | Chancela Al-Mansour, 213-387-8400 | 9 | 324,938.00
Fair Housing Council of Riverside County, Inc.: 3933 Mission Inn Ave., Riverside, CA 92502 | Rose Mayes, 951-682-6581 | 9 | 256,903.00
Intermountain Fair Housing Council, Inc.: 350 N. 9th Street, Suite M 200, Boise, ID 83702 | Richard Mabbutt, 208-383-0695 | 10 | 324,839.00
Private Enforcement Initiative/Mortgage Rescue Scam Component
Fair Housing Center of Greater Boston: 59 Temple Place, Boston, MA 02111 | Tracy Brown, 617-399-0491 | 1 | 500,000.00
Legal Services NYC Staten Island: 36 Richmond Terrace Rm 205, Staten Island, NY 10301 | Nancy Goldhill, 718-233-6490 | 2 | 471,932.00
National Community Reinvestment Coalition: 727 15th Street, NW., Suite 900, Washington, DC 20005 | David Berenbaum, 202-628-8866 | 3 | 500,000.00
National Fair Housing Alliance: 1101 Vermont Avenue, NW., Washington, DC 20005 | Catherine Cloud, 202-898-1661 | 3 | 498,640.00
Housing Opportunities Made Equal of Virginia, Inc.: 626 E. Broad Street, Suite 400, Richmond, VA 23219 | Lorae Ponder, 804-237-7541 | 3 | 149,404.00
Community Legal Services of Mid-Florida, Inc.: 128 Orange Avenue, Daytona Beach, FL 32114 | Suzanne Edmunds, 386-255-6573 | 4 | 300,000.00
Jacksonville Area Legal Aid, Inc.: 126 W. Adams Street, Jacksonville, FL 32202 | Michael Figgins, 904-224-1546 | 4 | 499,970.00
South Suburban Housing Center: 18220 Harwood Avenue, Suite 1, Homewood, IL 60430 | John Petruszak, 708-957-4674 | 5 | 150,000.00
Legal Aid Society of Minneapolis: 430 First Avenue North, Suite 300, Minneapolis, MN 55401 | Lisa Cohen, 612-746-3770 | 5 | 356,365.00
Miami Valley Fair Housing Center, Inc.: 21 East Babbitt Street, Dayton, OH 45405 | Jim McCarthy, 937-223-6035 | 5 | 500,000.00
Southwest Fair Housing Council: 2030 E Broadway Suite 101, Tucson, AZ 85719 | Richard Rhey, 520-798-1568 | 9 | 323,689.00
California Rural Legal Assistance, Inc.: 531 Howard Street, Suite 300, San Francisco, CA 94105 | Austa Wakily, 530-742-0694 | 9 | 250,000.00
Private Enforcement Initiative/Performance Base Component
Pine Tree Legal Assistance: 88 Federal Street, Portland, ME 04112 | Nan Heald, 207-774-4753 | 1 | 325,000.00
Legal Assistance Corporation of Central Massachusetts: 405 Main Street, Worcester, MA 01608 | Jonathan Mannina, 508-752-3718 | 1 | 237,933.00
Housing Discrimination Project: 57 Suffolk Street, Holyoke, MA 01040 | Meris Bergquist, 413-539-9796 | 1 | 325,000.00
Fair Housing Center of Greater Boston: 59 Temple Place, Suite 1105, Boston, MA 02111 | Roxanne Murray, 617-399-0491 | 1 | 274,750.00
Fair Housing Council of Northern New Jersey: 131 Main Street, Suite 140, Hackensack, NJ 07601 | Lee Porter, 201-489-3552 | 2 | 325,000.00
Legal Assistance of Western NY, Inc.: 1 West Main Street, Rochester, NY 14614 | Louis Prieto, 585-295-5610 | 2 | 277,000.00
South Brooklyn Legal Services, Inc.: 105 Court Street, Brooklyn, NY 11201 | Meghan Faux, 718-246-3276 | 2 | 325,000.00
Long Island Housing Services: 640 Johnson Avenue, Bohemia, NY 11716 | Michelle Santantonio, 631-467-5111 | 2 | 275,000.00
Housing Opportunities Made Equal, Inc.: 700 Main Street, Buffalo, NY 14202 | Scott Ghel, 716-854-1400 | 2 | 263,846.33
Equal Rights Center: 11 Dupont Circle, NW., Suite 450, Washington, DC 20036 | Chip Underwood, 202-370-3228 | 3 | 325,000.00
Fair Housing Partnership of Greater Pittsburgh: 2840 Liberty Avenue, Ste. 205, Pittsburgh, PA 15222 | Peter Harvey, 412-391-2535 | 3 | 275,000.00
Fair Housing Council of Suburban Philadelphia, Inc.: 225 South Chester Road, Ste. 1, Swathmore, PA 19801 | James Berry, 610-604-4411 | 3 | 274,817.66
Fair Housing Rights Center of Southeastern Pennsylvania: 105 Glenside Avenue, Glenside, PA 19038 | Angela McIver, 215-576-7711 | 3 | 275,000.00
Central Alabama Fair Housing Center: 1817 West Second Street, Montgomery, AL 36106 | Faith Cooper, 334-263-4663 | 4 | 274,000.00
Fair Housing Center of Northern Alabama: 1728 3rd Avenue, North, 400 C, Birmingham, AL 35203 | Lila Hackett, 205-324-0111 | 4 | 275,000.00
Mobile Fair Housing Center, Inc.: P.O. Box 161202, Mobile, AL 36616 | Teresa Bettis, 251-479-1532 | 4 | 275,000.00
Metro Fair Housing Services, Inc.: 1514 East Cleveland, East Point, GA 30344 | Foster Corbin, 404-221-0874 | 4 | 275,000.00
Tennessee Fair Housing Council, Inc.: 107 Music City Circle, Nashville, TN 37314 | Tracey McCartney, 615-383-6155 | 4 | 275,000.00
Lexington Fair Housing Council, Inc.: 207 E. Reynolds Road, Lexington, KY 40517 | Arthur Crosby, 859-971-8067 | 4 | 260,476.66
West Tennessee Legal Services, Inc.: 210 W. Main Street, Jackson, TN 38301 | Carol Gish, 731-426-1309 | 4 | 275,000.00
Jacksonville Area Legal Aid, Inc.: 126 West Adams Street, Jacksonville, FL 32202 | Michael Figgins, 904-224-1546 | 4 | 274,751.66
Housing Opportunities Project for Excellence, Inc.: 18441 NW 2nd Avenue, Suite 218, Miami Gardens, FL 33169 | Keenya Robertson, 305-651-4673 | 4 | 325,000.00
Housing Opportunities Made Equal of Greater Cincinnati, Inc.: 2400 Reading Road, Suite 118, Miami Gardens, FL 45202 | Elizabeth Brown, 513-721-4663 | 5 | 324,359.00
Legal Aid Society of Minneapolis: 430 First Avenue North, Suite 300, Minneapolis, MN 55401 | Lisa Cohen, 612-746-3770 | 5 | 325,000.00
Fair Housing Center of Southwest Michigan: 410 E. Michigan, Kalamazoo, MI 49007 | Robert Ells, 269-276-9100 | 5 | 302,766.00
Housing Research & Advocacy Center: 3631 Perkins Ave., Suite 3A-2, Cleveland, OH 44114 | Jeffrey Dillman, 216-361-9240 | 5 | 325,000.00
Chicago Lawyers' Committee for Civil Rights Under Law, Inc.: 100 North LaSalle Street, Suite 600, Chicago, IL 60602 | Jay Readey, 312-630-9744 | 5 | 325,000.00
Access Living of Metropolitan Chicago: 115 West Chicago Avenue, Chicago, IL 60654 | Jason Gilmore, 312-640-2185 | 5 | 325,000.00
Interfaith Housing Center of the Northern Suburbs: 614 Lincoln Avenue, Winnetka, IL 60093 | Gail Schechter, 847-501-5760 | 5 | 235,687.00
John Marshall Law School: 315 S. Plymouth, Chicago, IL 60604 | Michael Seng, 312-987-2397 | 5 | 274,958.33
Fair Housing Opportunities dba Fair Housing Center: 432 North Superior, Toledo, OH 43604 | Michael Marsh, 419-243-6163 | 5 | 275,000.00
Metropolitan Milwaukee Fair Housing Council, Inc.: 600 East Mason Street, Milwaukee, WI 53202 | William Tisdale, 414-278-1240 | 5 | 274,921.33
South Suburban Housing Center: 18220 Harwood Avenue, Homewood, IL 60430 | John Petruszak, 708-957-4574 | 5 | 273,505.00
Housing Advocates, Inc.: 3214 Prospect Avenue, East, Cleveland, OH 44115 | Edward Kramer, 216-431-7400 | 5 | 275,000.00
Fair Housing Center of West Michigan: 20 Hall Street, SE., Grand Rapids, MI 49507 | Nancy Haynes, 616-451-2980 | 5 | 274,603.66
HOPE Fair Housing Center: 2100 Manchester Road, Wheaton, IL 60187 | Bernard Kleina, 630-690-6500 | 5 | 274,490.66
Fair Housing Center of Southeastern Michigan: 410 E. Michigan, Ann Arbor, MI 49007 | Robert Ellis, 269-276-9100 | 5 | 183,549.00
Fair Housing Resource Center, Inc.: 54 South State Street, Ste. 303, Painesville, OH 44077 | Patricia Kidd, 440-392-0147 | 5 | 275,000.00
Fair Housing Center of Metropolitan Detroit: 1249 Washington Blvd., Ste. 1312, Detroit, MI 48226 | Clifford Schrupp, 313-963-1274 | 5 | 180,740.00
Fair Housing Contact Services: 441 Wold Ledge Parkway, Ste. 200, Akron, OH 44311 | Tamala Skipper, 330-376-6191 | 5 | 275,000.00
Austin Tenants Council Inc.: 1640-B E. Second St., Suite 150, Austin, TX 78702 | Katherine Stark, 512-474-7007 | 6 | 324,723.00
Metropolitan Fair Housing Council of Oklahoma, Inc.: 1500 NE 4th Street, Suite 204, Oklahoma City, OK 73117 | Mary Dulan, 405-232-3247 | 6 | 324,808.00
Greater Houston Fair Housing Center, Inc.: P.O. Box 292, Houston, TX 77001 | Daniel Bustamante, 713-641-3247 | 6 | 325,000.00
San Antonio Fair Housing Council, Inc.: 4414 Centerview Drive, San Antonio, TX 78228 | Sandra Tamez, 210-773-3247 | 6 | 275,000.00
Metropolitan St. Louis Equal Housing Opportunity Council: 1027 S. Vandeventer Ave., 6th Floor, Saint Louis, MO 63110 | Willie Jordan, 314-448-9063 | 7 | 272,614.00
Family Housing Advisory Services, Inc.: 2401 Lake Street, Omaha, NE 68111 | Teresa Hunter, 402-934-6657 | 7 | 275,000.00
Inland Mediation Board: The City Center Building, 10681 Foothill Blvd., Rancho Cucamor, CA 91730 | Lynne Anderson, 909-984-2254 | 9 | 325,000.00
Fair Housing of Marin: 615 B Street, San Rafael, CA 94901 | Nancy Kenyon, 415-457-5025 | 9 | 324,997.00
Bay Area Legal Aid: 1735 Telegraph Avenue, Oakland, CA 94612 | Jaclyn Pinero, 510-663-4755 | 9 | 325,000.00
Southwest Fair Housing Council: 2030 E Broadway, Tucson, AZ 85719 | Richard Rhey, 520-798-1568 | 9 | 274,309.00
California Rural Legal Assistance, Inc.: 531 Howard Street, Suite 300, San Francisco, CA 94105 | Austa Wakily, 530-742-7235 | 9 | 275,000.00
Project Sentinel, Inc.: 525 Middlefield, Redwood City, CA 94063 | Ann Marquart, 650-321-6291 | 9 | 273,787.67
Silver State Fair Housing Council: 855 Fourth Street, Reno, NV 89512 | Katherine Copeland, 775-324-0990 | 9 | 268,606.00
Legal Aid Society of Hawaii: 924 Bethel Street, Honolulu, HI 96813 | Nalani Fujmori, 808-536-4302 | 9 | 275,000.00
Northwest Fair Housing Alliance: 35 W. Main, Spokane, WA 99201 | Marley Hochendoner, 509-209-2667 | 10 | 325,000.00
Fair Housing Council of Oregon: 506 SW 6th Avenue, Suite 1111, Portland, OR 97204 | Moloy Good, 503-223-8197 | 10 | 325,000.00
Fair Housing Center of Washington: 1517 S. Fawcett, Ste. 250, Tacoma, WA 98402 | Lauren Walker, 253-274-9523 | 10 | 275,000.00

[FR Doc. 2011-24277 Filed 9-21-11; 8:45 am]

BILLING CODE 4210-67-P